DEPARTMENT OF TRANSPORTATION

Federal Aviation Administration

[Docket No.: FAA-2016-4756]

Reduction of Remote Communications Outlets Used by Flight Service Stations in the Conterminous United States

AGENCY: Federal Aviation Administration (FAA), DOT.

ACTION: Notice of final policy.

SUMMARY: This action sets forth the final policy determination for the FAA's proposed plan to decommission remote communications outlets (RCO) used by Flight Service Stations in the conterminous United States, Hawaii, and Puerto Rico. Based on comments, the FAA has decreased the number of RCOs planned for decommissioning from 666 to 641, which includes 404 RCOs and 237 VOR outlets.

DATES: Applicable: August 30, 2017.

FOR FURTHER INFORMATION CONTACT: Teri Bristol, ATO Chief Operating Officer, Office of the Administrator, Federal Aviation Administration, 800 Independence Avenue SW., Washington, DC 20591; telephone: (202) 267-1240.

SUPPLEMENTARY INFORMATION:

Background

The FAA maintains a network of over 2,100 remote communications outlets (RCOs) throughout the conterminous United States, Hawaii and Puerto Rico. The RCOs are used by a contract service provider to communicate with pilots in flight. By using these frequencies, pilots can obtain weather briefings and file flight plans and receive numerous other services.

On April 28, 2016, the FAA published a notice of proposed policy outlining the plan to reduce the number of radio frequencies used by Flight Service Stations to communicate with aircraft in flight (81 FR 25484). The FAA noted that a network of 1,223 RCOs and 398 VOR frequencies cover a vast majority of the conterminous United States and include duplicate, overlapping, and seldom used frequencies. Based on a study conducted by MITRE, the FAA proposed a policy to decommission 666 RCOs in the conterminous United States, Hawaii, and Puerto Rico.¹ The FAA estimated that, by reducing radio coverage, the agency could save approximately $2.5 million annually in maintenance costs alone. Additional savings would be realized once property leases are terminated and voice-switch communications infrastructure is decreased.

¹ The FAA noted that the following frequencies would not be considered for decommissioning: frequencies for emergency use only; frequencies for military use only, frequencies in the State of Alaska, and Ground Communications Outlets.

Discussions of Comments

The FAA received 13 comments on the proposed policy. The following summary of comments reflects the major issues raised and does not restate each comment received. The FAA considered all comments received even if not specifically identified and responded to in this notice. The FAA made revisions to the policy based on comments received.

1. An individual commented that the same frequency, 122.2, was listed twice for Princeton, Minnesota (PNM), one indicated that it would be retained, and one indicated that it would be removed. The FAA will retain PNM 122.2. The commenter also indicated that we have an RCO at Minneapolis that is not on either list. The RCO at Minneapolis, 122.3, will be decommissioned.

2. Two commenters noted that the Duluth, Minnesota (DLH) frequency 124.8 is not a Flight Service Station frequency. The FAA will remove DLH frequency 124.8 from the decommissioning list as it is not a Flight Service Station frequency.

3. Six commenters requested that the FAA not decommission the Galian, Ohio (GQQ) remote communications outlet. Several of these commenters suggested that the frequency was important to corporate, business, and general aviation traffic using the airport. The FAA will not decommission 126.8 at GQQ.

4. Another commenter recommended retaining Du Page, Illinois (DPA) frequency 122.3. The commenter noted that, if both Waukegan, Illinois (UGN) and DuPage, Illinois RCOs were decommissioned, the closest remote communications outlet for pilots flying in the area would be 40-50 miles away—MKE to the North, RFD to the West, IKK to the South and VPZ to the East. The FAA will not decommission DPA frequency 122.3.

5. A commenter noted that RCO usage is not uniformly distributed across the RCO coverage area and asked whether an analysis has been done to determine what percentage of actual FSS transactions would be affected. The individual commented that, if, for instance, there is a mountain pass with notoriously bad weather and pilots frequently call FSS inflight to get the conditions in that area then reduction of service in this area should not be considered equivalent to reduction of service in an area where there are few contacts made to FSS due to benign weather, few flights, etc.

Response: Usage data is not available for individual RCOs. The FAA is retaining coverage across the conterminous United States, Hawaii and Puerto Rico of greater than 98% at 5,000 agl, 97% at 3,000 agl, and 92% at 1,000 agl. The FAA specifically excluded mountainous areas in the western US and also avoided areas where no other Air Traffic frequencies were available.

6. The same commenter indicated that he believed that the baseline coverage should not have excluded VORs that are proposed to be decommissioned. He suggested that not including these VORs in the baseline artificially reduces the baseline coverage with respect to the actual current coverage. He noted that the stated goal was to reduce coverage by less than 10% but, if the baseline is already reduced, the result may be a reduction of more than 10% compared with today.

Response: The VORs proposed for decommissioning were considered a given and not considered for retention in the proposal. Approximately 237 individual VORs with voice capability, scheduled for decommissioning through the VOR Minimum Operational Network (MON) program, will be reviewed on a case by case basis. If it is determined that a significant degradation of service capability exists with the decommissioning of a specific VOR, steps will be taken to replace it with a separate RCO.

7. The same commenter also stated that the proposal reduces redundancy which is good from a fiscal and complexity standpoint but is bad when considering that equipment failures happen. He asked whether an analysis had been done of the current and expected reliability of the RCO MON including an assessment of how quickly it can be repaired and what the impact will be on pilots?

Response: Most, if not all, of our RCOs have standby receivers and transmitters in case of mechanical malfunction or for use during routine maintenance. In case of a line outage, FTI has a goal of a four-hour restoration time and, in case of major equipment malfunction, Technical Operations has a response time for RCO outages of either 24 or 96 hours depending upon backup and other facilities co-located or nearby. Notices to Airmen (NOTAMs) are issued for RCO outages as they occur. The FAA has concluded that, given these facts, there is no discernable safety impact on the pilot.

8. Finally, this commenter noted that he was concerned that, with the elimination of Flight Watch, there would be a further reduction of inflight weather resources available to pilots. He noted that, while FIS-B is now available, the coverage area is not 100%, many pilots do not have the necessary equipment to receive FIS-B information, and many pilots do not have the skills necessary to interpret the FIS-B data and rely on FSS personnel. FSS also provides services that FIS-B cannot duplicate such as opening and closing VFR flight plans.

Response: The current RCO coverage area was designed at a time when FSS personnel were handling over 10,000 radio calls per day, today they handle less than 1,000 calls per day. Technological advances, including FIS-B, are providing pilots with greater access to inflight weather resources than ever before. This reduction is meant to align the RCO infrastructure with pilot demand. While it is true that FIS-B cannot open or close flight plans, other methods are available for this service including using another nearby RCO, activation and closure using the telephone, assumed departures, etc.

9. Another commenter stated that, with the demise of the En Route Flight Advisory Service (EFAS), he believed it was unwise to eliminate 122.2 MHz and noted that 122.2 and 121.5 are two of the frequencies that pilots are taught to commit to memory as they were “go to” frequencies in a crisis.

Response: Where there are multiple frequencies in the same geographic area, the FAA will retain 122.2 to the degree possible (this was the case for the RCO located at Columbus, NE). Over 95% of the current 122.2s are being retained. In addition, Flight Service is moving to retain 103 frequencies which were previously dedicated to EFAS. A number of these will be retuned to 122.2 vice 122.0 which will increase the coverage of 122.2's across the country. The FAA conducts safety seminars and other outreach programs to educate pilots on the need to ensure they obtain frequency information for their route of flight prior to departure.

Final Policy

In accordance with the above, the FAA is adopting the following policy statement on the decommissioning of Remote Communications Outlets used by Flight Service Stations in the conterminous United States, Hawaii, and Puerto Rico.

The FAA will reduce the number of radio frequencies used by Flight Service Stations to communicate with aircraft in flight. Remote communications outlets in 641 locations will be decommissioned beginning in late fiscal year 2017. Notices to Airmen (NOTAMs) will be issued as each frequency is decommissioned. Frequencies in Alaska and those designated for emergency or military use are not included.

A link to maps showing the approximate frequency coverage after the reduction at various altitudes, with percentages of coverage can be found here: http://www.faa.gov/about/office_org/headquarters_offices/ato/service_units/systemops/fs/media/Radio_Reduction_Fed_Reg.pdf.

A link to the frequencies that will be decommissioned can be found here: http://www.faa.gov/about/office_org/headquarters_offices/ato/service_units/systemops/fs/media/RCO_Master_List.xlsx.

The FAA posted frequently asked Questions and Answers regarding the Reduction of Remote Communications Outlets Used by Flight Service Stations in the Conterminous United States on http://www.faa.gov/about/office_org/headquarters_offices/ato/service_units/systemops/fs/media/RCO_Reduction_FAQ_030217.pdf.

These Questions and Answers will be periodically updated until FAA charts and publications are revised to reflect the changes in this notice.

Issued in Washington, DC, on August 23, 2017.
Michael P. Huerta,
Administrator, Federal Aviation Administration.

[FR Doc. 2017-18398 Filed 8-29-17; 8:45 am]

BILLING CODE 4910-13-P